ENVIRONMENTAL PROTECTION AGENCY

[FRL-9721-01-OA]

Meeting of the Local Government Advisory Committee's Small Communities Advisory Subcommittee

AGENCY: Environmental Protection Agency (EPA).

ACTION: Notification of public meeting.

SUMMARY: Pursuant to the Federal Advisory Committee Act (FACA), EPA hereby provides notice of a meeting of the Local Government Advisory Committee's (LGAC) Small Communities Advisory Subcommittee (SCAS) on the date and times described below. This meeting will be open to the public. For information on public attendance and participation, please see the registration information under SUPPLEMENTARY INFORMATION.

DATES: The SCAS will meet virtually April 20th, 2022, starting at 1:00 p.m. through 2:30 p.m. Eastern Time.

FOR FURTHER INFORMATION CONTACT: Edlynzia Barnes, Designated Federal Officer (DFO), at LGAC@epa.gov or 312-886-6249.

Information on Accessibility: For information on access or services for individuals requiring accessibility accommodations, please contact Edlynzia Barnes by email at LGAC@epa.gov. To request accommodation, please do so five (5) business days prior to the meeting, to give EPA as much time as possible to process your request.

SUPPLEMENTARY INFORMATION: Following the passage of the historic Bipartisan Infrastructure Law (BIL), the U.S. Environmental Protection Agency (EPA) will be making significant investments in the health, equity, and resilience of American communities. With unprecedented funding to support our national infrastructure, EPA will improve people's health and safety, help create good-paying jobs, and increase climate resilience throughout the country.

As EPA works to implement the BIL, EPA has asked the SCAS for their input on how the Agency can best:

• Support clean and sustainable air, water, and land priorities for small and rural communities.

• Support capacity needs/advancement for small and rural communities.

• Ensure long-lasting communication between EPA and local officials from small and rural communities.

• Ensure small communities are positioned to benefit from this generational investment in environmental infrastructure.

During this meeting the SCAS will deliberate initial recommendations for the charge questions noted above.

All interested persons are invited to attend and participate. The SCAS will hear comments from the public from 2:05-2:15 p.m. (EDT). Individuals or organizations wishing to address the Subcommittee will be allowed a maximum of five (5) minutes to present their point of view. Also, written comments should be submitted electronically to LGAC@epa.gov for the SCAS. Please contact the DFO at the email listed under FOR FURTHER INFORMATION CONTACT to schedule a time on the agenda by April 17, 2022. Time will be allotted on a first-come first-served basis, and the total period for comments may be extended if the number of requests for appearances requires it.

Registration: The meeting will be held virtually through an online audio and video platform. Members of the public who wish to participate should register by contacting the Designated Federal Officer (DFO) at LGAC@epa.gov by April 15, 2022. The agenda and other supportive meeting materials will be available online at https://www.epa.gov/ocir/small-community-advisory-subcommittee-scas and can be obtained by written request to the DFO. In the event of cancellation for unforeseen circumstances, please contact the DFO or check the website above for reschedule information.

Julian Bowles,
Director, State and Local Relations, Office of Congressional and Intergovernmental Relations.

[FR Doc. 2022-07190 Filed 4-4-22; 8:45 am]

BILLING CODE 6560-50-P